COMMITTEE FOR THE IMPLEMENTATION OF TEXTILE AGREEMENTS

Adjustment of Import Limits for Certain Wool Textile Products Produced or Manufactured in the Former Yugoslav Republic of Macedonia

June 10, 2003.

AGENCY: Committee for the Implementation of Textile Agreements (CITA).

ACTION: Issuing a directive to the Commissioner, Bureau of Customs and Border Protection adjusting limits.

EFFECTIVE DATE: June 13, 2003.

FOR FURTHER INFORMATION CONTACT: Naomi Freeman, International Trade Specialist, Office of Textiles and Apparel, U.S. Department of Commerce, (202) 482-4212. For information on the quota status of these limits, refer to the Quota Status Reports posted on the bulletin boards of each Customs port, call (202) 927-5850, or refer to the Bureau of Customs and Border Protection website at http://www.customs.gov. For information on embargoes and quota re-openings, refer to the Office of Textiles and Apparel website at http://otexa.ita.doc.gov.

SUPPLEMENTARY INFORMATION:

Authority: Section 204 of the Agricultural Act of 1956, as amended (7 U.S.C. 1854); Executive Order 11651 of March 3, 1972, as amended.

The current limits for certain categories are being adjusted to reflect Macedonia's accession to the World Trade Organization (WTO). Also, limits adjusted for swing and special shift in previous Federal Register notices and letters to Customs are also being revised to reflect WTO accession. In addition, carryover is being applied.

A description of the textile and apparel categories in terms of HTS numbers is available in the CORRELATION: Textile and Apparel Categories with the Harmonized Tariff Schedule of the United States (see Federal Register notice 68 FR 1599, published on January 13, 2003). Also see 67 FR 63895, published on October 16, 2002; 67 FR 65956, published on October 29, 2002; 68 FR 7509, published on February 14, 2003.

James C. Leonard III,
Chairman, Committee for the Implementation of Textile Agreements.

Committee for the Implementation of Textile Agreements

June 10, 2003.

Commissioner,

Bureau of Customs and Border Protection, Washington, DC 20229.

Dear Commissioner: This directive amends, but does not cancel, the directives issued to you on October 9, 2002; October 23, 2002; and February 7, 2003 by the Chairman, Committee for the Implementation of Textile Agreements. These directives concern imports of certain wool textile products, produced or manufactured in the Former Yugoslav Republic of Macedonia and exported during the twelve-month period beginning on January 1, 2003 and extending through December 31, 2003.

Effective on June 13, 2003, you are directed to adjust the current limits for the following categories to reflect Macedonia's accession to the World Trade Organization (WTO), as provided for under the Uruguay Round Agreement on Textiles and Clothing:

Category | adjusted twelve-month limit ¹
433 | 28,429 dozen.
434 | 11,417 dozen.
435 | 31,163 dozen.
443 | 181,069 numbers.
448 | 65,064 dozen.
¹ The limits have not been adjusted to account for any imports exported after December 31, 2002.

The Committee for the Implementation of Textile Agreements has determined that these actions fall within the foreign affairs exception to the rulemaking provisions of 5 U.S.C. 553(a)(1).

Sincerely,

James C. Leonard III,

Acting Chairman, Committee for the Implementation of Textile Agreements.

[FR Doc. 03-14965 Filed 6-12-03; 8:45 am]

BILLING CODE 3510-DR-S